DEPARTMENT OF COMMERCE

Submission for OMB Review; Comment Request

The Department of Commerce (DOC) has submitted to the Office of Management and Budget (OMB) for emergency clearance the following proposal for collection of information under provisions of the Paperwork Reduction Act (44 U.S.C. Chapter 35).

Agency: Bureau of Export Administration (BXA).

Title: BXA Program Questionnaire.

Form Number: None.

OMB Approval Number: None.

Type of Review: Emergency.

Burden Hours: 667.

Number of Respondents: 4,000.

Average Time Per Response: 10 minutes.

Needs and Uses: This questionnaire will be used by participants at the Update West conference, visitors to BXA's web site, and perhaps by attendees at future BXA conferences. The responses to these questions provide useful and practical information that BXA can use to determine that it is providing a quality program and gives BXA information useful to making recommended improvements. It also shows attendees that BXA cares about their experience and values their viewpoint.

Affected Public: Individuals, business or other for-profit organizations.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230.

Written comments and recommendations for the proposed information collection should be sent within 5 days of publication of this notice to David Rostker, OMB Desk Officer, Room 10202, New Executive Office Building, Washington, DC 20503.

Dated: April 4, 2002.
Gwellnar Banks,
Management Analyst, Office of the Chief Information Officer.

[FR Doc. 02-8550 Filed 4-8-02; 8:45 am]

BILLING CODE 3510-33-P